DEPARTMENT OF THE INTERIOR

Fish and Wildlife Service

DEPARTMENT OF COMMERCE

National Oceanic and Atmospheric Administration

[I.D. 110905A]

Notice of Intent to Conduct Public Scoping and to Prepare an Environmental Impact Statement Related to the Port of Vancouver's Columbia Gateway Site Habitat Conservation Plan

AGENCIES: Fish and Wildlife Service (FWS), Interior; National Marine Fisheries Service (NMFS), National Oceanic and Atmospheric Administration (NOAA), Commerce.

ACTION: Notice; scoping meetings.

SUMMARY: The U.S. Fish and Wildlife Service and the National Marine Fisheries Service (Services) advise interested parties of their intent to conduct public scoping under the National Environmental Policy Act (NEPA) to gather information to prepare an Environmental Impact Statement (EIS) related to a permit application from the Port of Vancouver, Washington, for the incidental take of listed species. The permit application would be associated with the Port of Vancouver Columbia Gateway Site Habitat Conservation Plan adjacent to the Columbia River in Vancouver, WA.

DATES: The public scoping meeting will be held on January 4, 2006, from 4-7 p.m. in Vancouver, WA.

Written comments should be received on or before January 19, 2006.

ADDRESSES: The public scoping meeting will be held at the Fruit Valley Community Center, 3203 Unander Avenue, Vancouver, WA 98660-1100.

All comments concerning the preparation of the EIS and the NEPA process should be addressed to: Greg M. Smith, FWS, 2600 SE 98th Avenue, Suite 100, Portland, OR 97266-1325, facsimile (503) 231-6195, or Laura Hamilton, NMFS, 510 Desmond Drive SE, Suite 103, Lacey, WA 98503-1273, facsimile (360) 753-9517. Comments may be submitted by e-mail to the following address: ColumbiaGatewayHCP.nwr@noaa.gov. In the subject line of the e-mail, include the document identifier: Columbia Gateway HCP-EIS.

FOR FURTHER INFORMATION CONTACT: Greg M. Smith, FWS (503) 231-6179; or Laura Hamilton, NMFS (360) 753-5820.

SUPPLEMENTARY INFORMATION:

Statutory Authority

Section 9 of the Endangered Species Act (ESA) (16 U.S.C. 1538) and implementing regulations prohibit the taking of animal species listed as endangered or threatened. The term “take” is defined under the ESA (16 U.S.C. 1532(19)) as to harass, harm, pursue, hunt, shoot, wound, kill, trap, capture, or collect, or to attempt to engage in any such conduct. “Harm” is defined by FWS regulation to include significant habitat modification or degradation where it actually kills or injures wildlife by significantly impairing essential behavioral patterns, including breeding, feeding, and sheltering (50 CFR 17.3). NMFS' definition of “harm” includes significant habitat modification or degradation where it actually kills or injures fish or wildlife by significantly impairing essential behavioral patterns, including breeding, feeding, spawning, migrating, rearing, and sheltering (64 FR 60727, November 8, 1999).

Section 10 of the ESA and implementing regulations specify requirements for the issuance of incidental take permits (ITPs) to non-Federal landowners for the take of endangered and threatened species. Any proposed take must be incidental to otherwise lawful activities, not appreciably reduce the likelihood of the survival and recovery of the species in the wild, and minimize and mitigate the impacts of such take to the maximum extent practicable. In addition, the applicant must prepare a habitat conservation plan (HCP) describing the impact that will likely result from such taking, the strategy for minimizing and mitigating the take, the funding available to implement such steps, alternatives to such taking, and the reason such alternatives are not being implemented.

NEPA (42 U.S.C. 4321 et seq.) requires that Federal agencies conduct an environmental analysis of their proposed actions to determine if the actions may significantly affect the human environment. Under NEPA, a reasonable range of alternatives to proposed projects is developed and considered in the Services' environmental review. Alternatives considered for analysis in an EIS may include: variations in the scope of covered activities; variations in the location, amount, and type of conservation; variations in permit duration; or a combination of these elements. In addition, the EIS will identify potentially significant direct, indirect, and cumulative impacts on biological resources, land use, air quality, water quality, water resources, socioeconomics, and other environmental issues that could occur with the implementation of the applicant's proposed actions and alternatives. For potentially significant impacts, an EIS may identify avoidance, minimization, or mitigation measures to reduce these impacts, where feasible, to a level below significance.

Background

An EIS for the Columbia Gateway HCP would analyze the potential issuance of two ITPs, one by NMFS and one by the FWS. To obtain an ITP, the applicant must prepare an HCP that meets the issuance criteria established by the ESA and Service regulations (50 CFR 17.22(b)(2), 17.32(b)(2), and 222.307). Should a permit or permits be issued, the permit(s) may include assurances under the Services' "No Surprises" regulations.

The Port of Vancouver (Port) is seeking ITPs from the Services that would provide ESA regulatory certainty for a proposed expansion of water-dependent and water-related development at the Columbia Gateway site. This industrial development would consist of the infrastructure necessary to support marine terminals on Parcel 3 (approximately 517 acres), and offsite transportation facilities necessary to move material to and from Parcel 3. These offsite transportation facilities include a proposed rail line to connect Columbia Gateway with the existing Burlington Northern Santa Fe mainline, and the extension of 26th Avenue within the City of Vancouver to provide an alternate route between the site and Interstate 5, to accommodate increased cargo and employee trips that would occur as a result of the project.

In addition to Parcel 3, the Columbia Gateway site includes Parcels 2, 4, and 5, and the Port's Rufener property. Parcel 2 is a 31-acre tract near Parcel 3, Parcels 4 (112 acres) and 5 (430 acres) are located north of the Vancouver Lake Flushing Channel, and the Rufener property (206 acres) is located east of Vancouver Lake and west of the Fruit Valley neighborhood. To compensate for wildlife habitat impacts that would be caused by proposed development activities on Parcel 3, the Port proposes to provide habitat mitigation on Parcels 4 and 5 and the Rufener property. Some industrial facilities would also be developed on the Rufener property. A portion of Parcel 2 may be used as a transportation corridor to access Parcel 3.

Species for which the Port seeks incidental take coverage include 15 species of fish and one species of wildlife. Three of the fish species are currently listed as endangered under the ESA, including Upper Columbia River Spring-run Chinook (Oncorhynchus tshawytscha), Upper Columbia River steelhead (O. mykiss), and Snake River sockeye (O. nerka). Nine fish species are currently listed as threatened under the ESA, including Lower Columbia River Chinook, Upper Willamette Chinook, Snake River Fall-Run Chinook, Snake River Spring/Summer-Run Chinook, Columbia River chum (O. keta), Lower Columbia River steelhead, Middle Columbia River steelhead, Upper Willamette River steelhead, and Snake River Basin steelhead. The bald eagle (Haliaeetus leucocephalus) is also listed as threatened. The Lower Columbia River coho evolutionary significant unit (O. kisutch) is proposed for listing. The Pacific lamprey (Lampetra tridentata) and coastal cutthroat trout (O. clarki clarki) are species of concern. One additional species, the sandhill crane (Grus canadensis), will be addressed in the conservation measures contained in the HCP; however, the Port is not seeking ITP coverage for this species. The bald eagle, Pacific lamprey, coastal cutthroat trout and sandhill crane are under the jurisdiction of the FWS, and the remaining species are under the jurisdiction of NMFS.

The draft HCP to be prepared by the Port in support of the ITP applications will describe the impacts of take on proposed covered species, and will propose a conservation strategy to minimize and mitigate those impacts on each covered species to the maximum extent practicable. The Port will develop habitat conservation measures for fish and wildlife, and their associated habitat, with assistance from the Services. Habitat conservation measures for the bald eagle will follow the Washington Department of Fish and Wildlife Bald Eagle Management Plan, developed for the site with the FWS and the Port. Other conservation and mitigation strategies will include:

• Regulated wetland (Clean Water Act section 404) impacts as a result of development on Parcel 3 would be mitigated on Parcels 4 and 5 (approximately 542 acres).

• Natural resource protection and mitigation planning would be primarily shaped by regulatory requirements.

• Wetland and wildlife habitat impacts from development of the road and rail infrastructure would be mitigated on the Port's Rufener property.

• Limited mitigation and habitat areas would be retained along the shoreline and the Flushing Channel on Parcel 3.

The draft HCP will identify HCP alternatives considered by the Port and will explain why those alternatives were not selected. The Services are responsible for determining whether the HCP satisfies ESA section 10 permit issuance criteria.

Under NEPA, a reasonable range of alternatives to a proposed project must be developed and considered in the Services' environmental review. The Services have identified the following preliminary alternatives for public evaluation during the scoping period:

Alternative 1: No Action - Under the No Action Alternative, the ITPs would not be issued by the Services and the HCP would not be approved. The Port would be required to comply with all local, state, and Federal laws and regulations through the appropriate permitting processes.

Alternative 2: Proposed Alternative - There would be full implementation of the HCP, which includes a set of site-specific wetland, riparian, and upland habitat conservation measures that would be specific to the Columbia Gateway site and associated rail and road improvements.

Alternative 3: The HCP would be modified by changing or adding measures to further reduce the amount and risk of incidental take. These measures could involve different road and/or rail alignments, industrial development configurations, approaches to ESA compliance, conservation commitments, adaptive management, permit timeframes, covered lands, covered species, eligible parties and other covered activities.

Additional project alternatives may be developed based on input received from the public scoping process.

Request for Comments

The primary purpose of the scoping process is for the public to assist the Services in developing the EIS by identifying important issues and alternatives related to the applicant's proposed action. The scoping workshop will allocate time for presentations by the Services and the Port, followed by informal questions and discussions.

Written comments from interested parties are welcome to ensure that the full range of issues related to the proposed permit request are identified. All comments and materials received, including names and addresses, will become part of the administrative record and may be released to the public.

Comments and materials received will be available for public inspection, by appointment, during normal business hours at the offices listed in the ADDRESSES section of this notice.

The Services request that comments be specific. In particular, we request information regarding: direct, indirect, and cumulative impacts that implementation of the proposed HCP or other alternatives could have on endangered and threatened and other covered species, and their communities and habitats; other possible alternatives that meet the purpose and need; potential adaptive management and/or monitoring provisions; funding issues; existing environmental conditions in the plan area; other plans or projects that might be relevant to this proposed project; permit duration; maximum acreage that should be covered; specific species that should or should not be covered; specific landforms that should or should not be covered; and minimization and mitigation efforts. NMFS and FWS estimate that the draft EIS will be available for public review in the summer of 2006.

The environmental review of this project will be conducted in accordance with the requirements of the NEPA of 1969 as amended (42 U.S.C. 4321 et seq.), Council on Environmental Quality Regulations (40 CFR parts 1500 1508), other applicable Federal laws and regulations, and applicable policies and procedures of the Services. This notice is being furnished in accordance with 40 CFR 1501.7 of the NEPA regulations to obtain suggestions and information from other agencies and the public on the scope of issues and alternatives to be addressed in the EIS.

Reasonable Accommodation

Persons needing reasonable accommodations to attend and participate in the public meeting should contact Greg Smith (see FOR FURTHER INFORMATION CONTACT). To allow sufficient time to process requests, please call no later than December 28, 2005. Information regarding the applicant's proposed action is available in alternative formats upon request.

Dated: November 29, 2005.
David J. Wesley,
Deputy Regional Director, Fish and Wildlife Service, Region 1, Portland, Oregon.

Dated: December 14, 2005.
Angela Somma,
Chief, Endangered Species Division, Office of Protected Resources, National Marine Fisheries Service.

[FR Doc. E5-7564 Filed 12-19-05; 8:45 am]

BILLING CODES 4310-55-S, 3510-22-S